ENVIRONMENTAL PROTECTION AGENCY

[FRL-7492-8]

Proposed Consent Decree, Clean Air Act Citizen Suit

AGENCY: Environmental Protection Agency.

ACTION: Notice of proposed Consent Decree; request for public comment.

SUMMARY: In accordance with section 113(g) of the Clean Air Act, as amended (“Act”), 42 U.S.C. 7413(g), notice is hereby given of a proposed Consent Decree. On April 17, 2003, Our Children's Earth Foundation filed a complaint pursuant to section 304(a) of the Act, 42 U.S.C. 7604(a), alleging the Environmental Protection Agency (“EPA”) failed to meet its mandatory duty to “assemble and publish a comprehensive document for each State setting forth all of the requirements of the applicable implementation plan for such State.” Our Children's Earth Foundation v. EPA, No. C03-1705 (N.D. CA). On April 17, 2003, EPA lodged a draft Consent Decree with the United States District Court for the Northern District of California and is seeking through this notice comment on whether to enter into the Consent Decree. The Consent Decree establishes time frames for nine EPA Regional Offices to make federally approved state clean air plans accessible via the worldwide web.

DATES: Written comments on the proposed Consent Decree must be received by June 2, 2003.

ADDRESSES: Written comments should be sent to Jan M. Tierney, Air and Radiation Law Office (2344A), Office of General Counsel, U.S. Environmental Protection Agency, 1200 Pennsylvania Ave., NW., Washington, DC 20460. Copies of the proposed Consent Decree are available from Phyllis J. Cochran,(202) 564-5566. On April 17, 2003, a copy of the proposed Consent Decree was lodged with the Clerk of the United States District Court for the Northern District of California.

SUPPLEMENTARY INFORMATION: Our Children's Earth Foundation (“OCEF”) alleges that nine EPA Regional Offices failed to meet the obligation under section 110(h) of the Clean Air Act to “assemble and publish a comprehensive document for each State setting forth all of the requirements of the applicable implementation plan for such State.”

Numerous provisions in the Clean Air Act require States to submit state implementation plans (“SIPs”) specifying specify how areas within the State will attain (i.e., meet) and maintain (i.e., ensure continued compliance with) federal air quality standards. SIPs include state regulations that establish enforceable obligations on different sources of pollution, such as stationary industrial sources, to limit emissions of pollutants into the air. In addition, the SIP may include modeling or other plans (“SIP Plans”) demonstrating how these state regulatory controls, in conjunction with federal programs, will bring and/or keep air quality in compliance with federal air quality standards. OCEF alleges that five EPA Regional Offices—Regions 1, 2, 3, 8 and 10—have not met the section 110(h) obligation with respect to SIP rules. OCEF alleges that nine EPA Regional Offices—Regions 1, 2, 3, 4, 5, 6, 7, 8, and 10—have not met the section 110(h) obligation with respect to SIP Plans.

The Consent Decree provides schedules by which Regions 1, 2, 3, 8, and 10 will make web accessible SIP rules for each state within the Region. In addition, for the nine Regions, the Consent Decree provides schedules by which each Region will make summaries of SIP Plans web accessible.

For a period of thirty (30) days following the date of publication of this notice, the Agency will receive written comments relating to the proposed Consent Decree from persons who were not named as parties or interveners to the litigation in question. EPA or the Department of Justice may withdraw or withhold consent to the proposed Consent Decree if the comments disclose facts or considerations that indicate that such consent is inappropriate, improper, inadequate, or inconsistent with the requirements of the Act. Unless EPA or the Department of Justice determine, following the comment period, that consent is inappropriate, the Consent Decree will be final.

Dated: April 28, 2003.
Lisa Friedman
Associate General Counsel.

[FR Doc. 03-10894 Filed 5-1-03; 8:45 am]

BILLING CODE 6560-50-P